COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR Agreement.

DATES: Effective Date: February 14, 2012.

SUMMARY: The Committee for the Implementation of Textile Agreements (“CITA”) has determined that certain faux suede bonded to faux fur pile fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 165.2012.01.09.Fabric.Alston&BirdforSRothschild&Co,Inc.

SUPPLEMENTARY INFORMATION:

Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamations 7987 (February 28, 2006) and 7996 (March 31, 2006).

Background: The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On January 9, 2012, the Chairman of CITA received a request for a Commercial Availability determination (“Request”) from Alston & Bird on behalf of S. Rothschild & Co., Inc. for certain faux suede bonded to faux fur pile fabric, as specified below. On January 11, 2012, in accordance with CITA's procedures, CITA notified interested parties of the Request, which was posted on the dedicated Web site for CAFTA-DR Commercial Availability proceedings. In its notification, CITA advised that any Response with an Offer to Supply (“Response”) must be submitted by January 24, 2012, and any Rebuttal Comments to a Response (“Rebuttal”) must be submitted by January 30, 2012, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

Specifications: Certain Faux Suede Bonded to Faux Fur Pile Fabric

HTS: 6001.10.2000

Note: If CBP classified the fabric based on its woven face, then it would be classifiable in one of the following subheadings within heading 5407, covering woven fabrics of synthetic filament yarn, including HTSUS 5407.52.2060, 5407.53.2060, 5407.61.9935, 5407.69.2060, 5407.60.4060, 5407.72.0060, 5407.73.2060, 5407.92.2010 or 5407.92.2090, or under one of the following subheadings within heading 5512, covering woven fabrics of synthetic staple fibers, 5512.19.00, 5512.91.00, and 5512.99.00.

Fabric Type: Faux suede bonded to faux fur pile

Fiber Content:

Faux Suede Face: 100% polyester

Faux Fur Pile Back: 50-80% polyester; 20-50% acrylic

Yarn Size:

Faux Suede Face:

Metric: 121.62 Nm to 118.42 Nm

English: 74D to 76D

Faux Fur Pile Back:

Metric: Acrylic 3600.00 Nm to 2571.42 Nm, Polyester 2250.00 Nm to 1800.00 Nm

English: Acrylic 2.5D to 3.5D, Polyester 4D to 5D

Note: The yarn size designations describe a range of yarn specifications for yarn in its greige condition before dyeing and finishing of the yarn (if applicable) and before knitting, dyeing and finishing of the fabric. They are intended as specifications to be followed by the mill in sourcing yarn used to produce the fabric. Dyeing, finishing, and knitting can alter the characteristic of the yarn as it appears in the finished fabric. This specification therefore includes yarns appearing in the finished fabric as finer or coarser than the designated yarn sizes provided that the variation occurs after processing of the greige yarn and production of the fabric.

Weight:

Metric: 515-575 grams per sq. meter after bonding

English: 15.19-16.96 ounces per sq. yard after bonding

Width:

Metric: Full width is 142.24-147.32 cm, cuttable width is 142.24 cm

English: Full width is 56-58 inches, cuttable width is 56 inches

Weave:

Faux Suede (Face): Woven

Faux Fur Pile (Back): Knit

Coloration:

Faux Suede (Face): Pieced Dyed

Faux Fur Pile (Back): Yarn Dyed

Finishing: Bonded (with sponge lamination), washed, and tumble dried

Kim Glas,
Chairman, Committee for the Implementation of Textile Agreements.

[FR Doc. 2012-3420 Filed 2-13-12; 8:45 am]

BILLING CODE 3510-DR-P